DEPARTMENT OF DEFENSE

Office of the Secretary

Submission for OMB Review; Comment Request

ACTION: Notice.

The Department of Defense will submit to OMB for emergency processing, the following proposal for collection of information under the provisions of the Paperwork Reduction Act (44 U.S.C. Chapter 35).

Title and OMB Number: The Public and the USAF: Recruiting and Retention Challenges; OMB Number 0701-[To Be Determined].

Type of Request: New Collection; Emergency processing requested with a shortened public comment period ending July 6, 2000. An approval date by July 15, 2000, has been requested.

Number of Respondents: 4,500.

Responses per Respondent: 1.

Annual Responses: 4,500.

Average Burden per Response: 13.33 minutes.

Annual Burden Hours: 1,000.

Needs and Uses: Recruitment and retention of United States Air Force personnel have become increasingly difficult due to many environmental factors, and the USAF is launching its first paid network television advertising campaign to address those recruiting and retention challenges. Audience research is needed to guide both planning of the campaign and evaluation of its effects. The information collected will be used by Air Force Affairs and Air Force Recruiting Service to measure the external audience's perceptions of and attitudes toward the people and mission of the Air Force, providing focused guidance in the process for the Air Force's initiatives to tackle its unprecedented recruiting and retention challenges. Potential areas of public confusion or need for more, or differently presented, information can be identified in order to better achieve the Air Force's recruiting and retention goals. Information will be reported and used in aggregate, not at the level of the individual respondent. Respondents are recruitment-age youth and the adults who influence them.

Affected Public: Individuals or Households.

Frequency: One-Time (including baseline and 3-, 6-month progress surveys).

Respondents Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302, or by fax at (703) 604-6370.

Dated: June 20, 2000.
Patricia L. Toppings,
Alternate OSD Federal Register Liaison Officer, Department of Defense.

[FR Doc. 00-15989 Filed 6-23-00; 8:45 am]

BILLING CODE 5001-10-M